DEPARTMENT OF STATE

[Public Notice: 10520]

60-Day Notice of Proposed Information Collection: Risk Analysis and Management (RAM)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 31, 2018.

ADDRESSES: You may submit comments by any of the following methods:

• Web: Persons with access to the internet may comment on this notice by going to www.Regulations.gov. You can search for the document by entering “Docket Number: DOS-2018-0035” in the Search field. Then click the “Comment Now” button and complete the comment form.

• Email: FARRELLLM1@state.gov.

• Regular Mail: Send written comments to: U.S. Department of State, Office of Risk Analysis and Management, 2201 C St. NW, Washington, DC 20520.

• Fax: 202-663-1037.

• Hand Delivery or Courier: U.S. Department of State, Office of Risk Analysis and Management, 2201 C St. NW, Washington, DC 20520.

You must include the DS form number (if applicable), information collection title, and the OMB control number in any correspondence.

FOR FURTHER INFORMATION CONTACT: Direct requests for additional information regarding the collection listed in this notice, including requests for copies of the proposed collection instrument and supporting documents, to Lisa M. Farrell, U.S. Department of State, Office of Risk Analysis and Management, 2201 C Street NW, Washington, DC 20520; who may be reached on 202-647-6020 or at FARRELLLM1@state.gov.

SUPPLEMENTARY INFORMATION:

• Title of Information Collection: Risk Analysis and Management.

• OMB Control Number: 1405-0204.

• Type of Request: Revision of a Currently Approved Collection.

• Originating Office: Bureau of Administration, Office of the Procurement Executive (A/OPE).

• Form Number: DS-4184.

• Respondents: Potential Contractors and Grantees.

• Estimated Number of Respondents: 500.

• Estimated Number of Responses: 500.

• Average Time per Response: 1 hour 30 minutes.

• Total Estimated Burden Time: 750 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected from individuals and organizations is used to conduct screening to ensure that State funded activities do not provide support to entities or individuals deemed to be a risk to national security.

The State Department has implemented a Risk Analysis and Management Program to vet potential contractors and grantees seeking funding from the Department of State to mitigate the risk that such funds might benefit entities or individuals who present a national security risk. To conduct this vetting program the Department collects information from contractors, sub-contractors, grantees and sub-grantees regarding their directors, officers and/or key employees. The information collected is compared to information gathered from commercial, public, and U.S. government databases to determine the risk that the applying organization, entity or individual might use Department funds or programs in a way that presents a threat to national security. The program is currently operating on a pilot basis consistent with the Department of State, Foreign Operations, and Related Programs Appropriations Act, 2018 (Div. K, Pub. L. 115-141).

Methodology

The Department collects information through mail, fax, or electronic submission.

Cathy J. Read,
Procurement Executive, Bureau of Administration, Department of State.

[FR Doc. 2018-23842 Filed 10-31-18; 8:45 am]

BILLING CODE 4710-24-P